DEPARTMENT OF HEALTH AND HUMAN SERVICES

Centers for Disease Control and Prevention

[60Day-04-49]

Proposed Data Collections Submitted for Public Comment and Recommendations

In compliance with the requirement of Section 3506(c)(2)(A) of the Paperwork Reduction Act of 1995 for opportunity for public comment on proposed data collection projects, the Centers for Disease Control and Prevention (CDC) will publish periodic summaries of proposed projects. To request more information on the proposed projects or to obtain a copy of the data collection plans and instruments, call the CDC Reports Clearance Officer on (404) 498-1210.

Comments are invited on: (a) Whether the proposed collection of information is necessary for the proper performance of the functions of the agency, including whether the information shall have practical utility; (b) the accuracy of the agency's estimate of the burden of the proposed collection of information; (c) ways to enhance the quality, utility, and clarity of the information to be collected; and (d) ways to minimize the burden of the collection of information on respondents, including through the use of automated collection techniques or other forms of information technology. Send comments to Sandra Gambescia, CDC Assistant Reports Clearance Officer, 1600 Clifton Road, MS-E11, Atlanta, GA 30333. Written comments should be received within 60 days of this notice.

Proposed Project

The 2005-2006 National Health and Nutrition Examination Survey (NHANES), OMB No. 0920-0237—Revision—National Center for Health Statistics (NCHS), Centers for Disease Control and Prevention (CDC).

NHANES programs produce descriptive statistics which measure the health and nutrition status of the general population. Through the use of questionnaires, physical examinations, and laboratory tests, NHANES studies the relationship between diet, nutrition and health in a representative sample of the United States. CDC uses NHANES to monitor the prevalence of chronic conditions and risk factors related to health such as asthma, osteoporosis, infectious diseases, diabetes, eye disease, high blood pressure, high cholesterol, obesity, smoking, drug and alcohol use, physical activity, environmental exposures, and diet. NHANES data are used to establish reference data for the general population against which health care providers can compare such patient characteristics as height, weight, and nutrient levels in the blood. Data from NHANES can be compared to those from previous surveys to monitor changes in the health of the U.S. population. NHANES will also establish a national probability sample of genetic material for future genetic research for susceptibility to disease.

Users of NHANES data include: Congress; Federal agencies such as NIH, EPA, and USDA; private groups such as the American Heart Association; schools of public health; private businesses; individual practitioners; and administrators. NHANES data are used to establish, monitor, and/or evaluate dietary guidelines, food fortification policies, environmental exposures, immunization guidelines and health education and disease prevention programs. The current submission requests approval through March 2007.

CDC, National Center for Health Statistics has conducted the National Health and Nutrition Examination Survey (NHANES) periodically since 1970, and continuously since 1999.

Approximately 5,000 participants are examined annually. Participants will receive an interview, a physical examination, a telephone dietary interview and a home allergen dust collection. This survey is completely voluntary and confidential. Respondents are reimbursed for any out-of-pocket costs such as transportation to and from the examination center. There is no cost to respondents other than their time.

Respondent category | No. of respondents | No. of responses/respondent | Avg. burden/response (in hrs.) | Total burden hours
1. Screening interview only | 13,333 | 1 | 10/60 | 2,220
2. Screener, family, and sample | 300 | 1 | 1.10 | 330
3. Screener, family, and sample | 5,180 | 1 | 5.9 | 30,560
4. Household dust collection | 2,328 | 1 | 36/60 | 1,400
5. Food propensity questionnaire | 3,350 | 1 | 30/60 | 1,675
6. Physical activity monitor | 4,000 | 1 | 15/60 | 1,000
7. Second dietary interview | 4,300 | 1 | 27/60 | 1,935
8. Special studies | 4,000 | 1 | 5.9 | 22,800
Total |  |  |  | 61,920

Dated: April 23, 2004.
Bill J. Atkinson,
Acting Director, Management Analysis and Services Office, Centers for Disease Control and Prevention.

[FR Doc. 04-9936 Filed 4-30-04; 8:45 am]

BILLING CODE 4163-18-P